DEPARTMENT OF TRANSPORTATION

Federal Aviation Administration

RTCA Government/Industry Air Traffic Management Advisory Committee (ATMAC)

AGENCY: Federal Aviation Administration (FAA), DOT.

ACTION: Notice of RTCA Government/Industry Air Traffic Management Advisory Committee (ATMAC).

SUMMARY: The FAA is issuing this notice to advise the public of a meeting of RTCA Government/Industry Air Traffic Management Advisory Committee (ATMAC).

DATES: The meeting will be held June 3, 2010, from 10 a.m. to 1 p.m.

ADDRESSES: The meeting will be held at Bessie Coleman Room, Federal Aviation Administration, 800 Independence Avenue, SW., Washington, DC 20591.

FOR FURTHER INFORMATION CONTACT: RTCA Secretariat, 1828 L Street, NW., Suite 805, Washington, DC 20036; telephone (202) 833-9339; fax (202) 833-9434; Web site http://www.rtca.org. METRO: L'Enfant Plaza Station (Use 7th & Maryland Exit).

SUPPLEMENTARY INFORMATION: Pursuant to section 10(a)(2) of the Federal Advisory Committee Act (Pub. L. 92-463, 5 U.S.C., Appendix 2), notice is hereby given for the Air Traffic Management Advisory Committee meeting. The agenda will include:

• Opening Plenary (Welcome and Introductions);

• Trajectory Operations (TOps) Work Group Presentation of Document, including Recommendations, for ATMAC Discussion, Approval, and possible Next Steps;

• NextGen Implementation Work Group (NGIWG) Report, Discussion, and possible Next Steps;

• ADS-B Work Group Presentation of Legacy ADS-B Equipment Paper for ATMAC Discussion, Approval, and possible Next Steps;

• FAA National Special Activity Airspace Program (NSAAP) Presentation Requested by Requirements and Planning Work Group, Airspace Work Group; precursor to future ATMAC Action Item;

• ATMAC Process Improvement Ad Hoc Group Presentation of Recommendations for ATMAC Discussion and Approval;

• ATMAC Membership for 2010-2011 Term;

• Closing Plenary (Other Business, Adjourn).

Note: Please arrive in the FAA lobby by 9:30 a.m. to allow ample time for security and check in procedures.

Attendance is open to the interested public but limited to space availability. With the approval of the chairmen, members of the public may present oral statements at the meeting. Persons wishing to present statements or obtain information should contact the person listed in the FOR FUTHER INFORMATION CONTACT section. Members of the public may present a written statement to the committee at any time.

Issued in Washington, DC, on May 10, 2010.
Francisco Estrada C.,
RTCA Advisory Committee.

[FR Doc. 2010-11720 Filed 5-14-10; 8:45 am]

BILLING CODE 4910-13-P